OFFICE OF GOVERNMENT ETHICS

5 CFR Part 2634

RIN 3209-AA00

Technical Amendment to Executive Branch Regulation Governing the Reporting Period for Incumbent Public Financial Disclosure Reports

AGENCY: Office of Government Ethics (OGE).

ACTION: Final rule; technical amendment.

SUMMARY: The Office of Government Ethics is issuing a final rule to amend the executive branchwide regulation that describes the reporting period for incumbent public financial disclosure reports to conform with the Ethics in Government Act, OGE regulations, and the report form instructions.

EFFECTIVE DATE: October 15, 2002.

FOR FURTHER INFORMATION CONTACT: Lorna A. Syme, Government Ethics Specialist, Program Services Division, Office of Government Ethics; Telephone: 202-208-8000, extension 1141; TDD: 202-208-8025; FAX: 202-208-8039.

SUPPLEMENTARY INFORMATION: In this rulemaking, OGE is making a technical amendment to subpart C of its executive branchwide financial disclosure regulation codified at 5 CFR part 2634. Section 2634.308(a) of subpart C sets forth the reporting period for incumbent public financial disclosure reports, which shall be either the preceding calendar year or any portion of that year not already covered by a new entrant or nominee report. The Office of Government Ethics is revising this provision in order to eliminate the language which permits exclusion of any portion of the preceding calendar year already covered by a new entrant or nominee report, so that the reporting period conforms with the time periods specified in the Ethics in Government Act of 1978, 5 U.S.C. appendix, OGE regulations, and the instructions to the public financial disclosure report form (SF 278). The Office of Government Ethics believes that the change to the reporting period embodied in this technical amendment is consistent with its oversight responsibilities pursuant to the Ethics Act, as well as the applicable provisions (section 102(a) dealing with contents of reports) of the Act.

Matters of Regulatory Procedure

Administrative Procedure Act

Pursuant to 5 U.S.C. 553(b) and (d), as Director of the Office of Government Ethics, I find good cause exists for waiving the general notice of proposed rulemaking and the opportunity for public comment as to this revision. The notice and comment are being waived because this technical amendment concerns matters of agency organization, practice and procedure, and it is in the public interest that the amendment take effect promptly.

Executive Order 12866

In promulgating this technical amendment, OGE has adhered to the regulatory philosophy and the applicable principles of regulation set forth in section 1 of Executive Order 12866, Regulatory Planning and Review. This amendment has not been reviewed by the Office of Management and Budget under the Executive order, since it is not deemed “significant” thereunder.

Executive Order 12988

As Director of the Office of Government Ethics, I have reviewed this final amendatory regulation in light of section 3 of Executive Order 12988, Civil Justice Reform, and certify that it meets the applicable standards provided therein.

Regulatory Flexibility Act

As Director of the Office of Government Ethics, I certify under the Regulatory Flexibility Act (5 U.S.C. chapter 6) that this rulemaking will not have a significant economic impact on a substantial number of small entities because it only affects executive branch public financial disclosure filers and the administration of the reporting system within executive branch agencies.

Paperwork Reduction Act

The Paperwork Reduction Act (44 U.S.C. chapter 35) does not apply because this final rule technical amendment does not contain information collection requirements that require the approval of the Office of Management and Budget.

Unfunded Mandates Reform Act

For purposes of the Unfunded Mandates Reform Act of 1995 (2 U.S.C. chapter 25, subchapter II), this rule will not significantly or uniquely affect small governments and will not result in increased expenditures by State, local, and tribal governments, in the aggregate, or by the private sector, of $100 million or more (as adjusted for inflation) in any one year.

Congressional Review Act

The Office of Government Ethics has determined that this amendatory rulemaking is a nonmajor rule under the Congressional Review Act (5 U.S.C. chapter 8) and has submitted a report thereon to the United States Senate, House of Representatives and General Accounting Office in accordance with that law.

List of Subjects in 5 CFR Part 2634

Certificates of divestiture, Conflict of interests, Financial disclosure, Government employees, Penalties, Privacy, Reporting and recordkeeping requirements, Trusts and trustees.

Approved: September 6, 2002.
Amy L. Comstock,
Director, Office of Government Ethics.

For the reasons set forth in the preamble, the Office of Government Ethics is amending 5 CFR part 2634 as follows:

PART 2634—EXECUTIVE BRANCH FINANCIAL DISCLOSURE, QUALIFIED TRUSTS, AND CERTIFICATES OF DIVESTITURE

1. The authority citation for part 2634 continues to read as follows:

Authority: 5 U.S.C. App. (Ethics in Government Act of 1978); 26 U.S.C. 1043; Pub. L. 101-410, 104 Stat. 890, 28 U.S.C. 2461 note (Federal Civil Penalties Inflation Adjustment Act of 1990), as amended by Sec. 31001, Pub. L. 104-134, 110 Stat. 1321 (Debt Collection Improvement Act of 1996); E.O. 12674, 54 FR 15159, 3 CFR, 1989 Comp., p. 215, as modified by E.O. 12731, 55 FR 42547, 3 CFR, 1990 Comp., p. 306.

Subpart C—Contents of Reports

2. Section 2634.308 is amended by revising paragraph (a) to read as follows:

§ 2634.308 Reporting periods and contents of public financial disclosure reports.

(a) Incumbents. Each public financial disclosure report filed pursuant to § 2634.201(a) shall include on the standard form prescribed by the Office of Government Ethics consistent with subpart F of this part and in accordance with instructions issued by that Office, a full and complete statement of the information required to be reported according to the provisions of subpart C of this part, for the preceding calendar year (except for §§ 2634.303 and 2634.304, relating to transactions and gifts/reimbursements, for which the reporting period does not include any portion of the previous calendar year during which the filer was not a Federal employee), and in the case of §§ 2634.306 and 2634.307, to include the additional period up to the date of filing.

* * * * *

[FR Doc. 02-23314 Filed 9-12-02; 8:45 am]

BILLING CODE 6345-01-P